DEPARTMENT OF HOUSING AND URBAN DEVELOPMENT

[Docket No. FR-5481-N-09]

Notice of Proposed Information Collection for Public Comment; McKinney-Vento Technical Assistance Narrative, Matrices, and Reporting Requirements

AGENCY: Office of the Assistant Secretary for Community Planning and Development, U.S. Department of Housing and Urban Development (HUD).

ACTION: Notice of proposed information collection.

SUMMARY: The proposed information collection requirement described below will be submitted to the Office of Management and Budget (OMB) for review, as required by the Paperwork Reduction Act. The Department is soliciting public comments on the subject proposal.

DATES: Comments Due Date: August 15, 2011.

ADDRESSES: Interested persons are invited to submit comments regarding this proposal. Comments should refer to the proposal by name/or OMB Control number and should be sent to: Colette Pollard, Departmental Reports Management Officer, QDAM, U.S. Department of Housing and Urban Development, 451 7th Street, SW., Room 4160, Washington, DC 20410-5000; telephone (202) 402-3400, (this is not a toll-free number) or e-mail Ms. Pollard at Colette_Pollard@hud.gov for a copy of proposed forms, or other available information. Persons with hearing or speech impairments may access this number through TTY by calling the toll-free Federal Information Relay Service at (800) 877-8339.

FOR FURTHER INFORMATION CONTACT: Ann Marie Oliva, Director, Office of Special Needs Assistance Programs, Office of Community Planning and Development, U.S. Department of Housing and Urban Development, 451 7th Street, SW., Room 7262, Washington, DC 20410; telephone (202) 708-1590 (this is not a toll-free number).

SUPPLEMENTARY INFORMATION: The Department will submit the proposed information collection to OMB for review, as required by the Paperwork Reduction Act of 1995 (44 U.S.C. chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses. This Notice also lists the following information:

Title of Proposal: McKinney-Vento Technical Assistance Narrative, Matrices, and Reporting Requirements.

Description of the need for the information proposed: McKinney-Vento Technical Assistance (MV-TA) Narrative, Matrices, and Reporting Requirements will allow the Office of Special Needs Assistance Programs (SNAPS) to accurately assess the experience, expertise, and overall capacity of applicants applying for technical assistance funding under the FY2011 McKinney-Vento Technical Assistance Notice of Funding Availability (NOFA). They will also allow SNAPS to monitor and evaluate TA progress over the course of the grant and make necessary interventions. The new format for this type of collection also makes it easier for applicants to apply and report by reducing the time required for filling out an application and reporting forms, while retaining the utility of previous collection methods.

Agency Form Numbers

Members of the affected public: Private for-profit, not-for-profit, and public entities applying for funding as technical assistance providers under the FY2011 MV-TA NOFA.

Estimation of the total number of hours needed to prepare the information collection including number of respondents, frequency of response, and hours of response: 10 applicants × 4,080 minutes per response + 5 grant recipients × 3,600 minutes per reporting year = 58,800 total minutes per year or 980 hours per year.

Status of proposed information collection: New Collection

Authority: Section 3506 of the Paperwork Reduction act of 1995, 44 U.S.C. chapter 35, as amended.

Dated: June 8, 2011.
Clifford D. Taffet,
General Deputy Assistant Secretary for Community Planning and Development.

[FR Doc. 2011-14905 Filed 6-15-11; 8:45 am]

BILLING CODE 4210-67-P